DEPARTMENT OF TRANSPORTATION

[DOT-OST-2023-0175]

Department of Transportation Advisory Committee on Human Trafficking: Notice of Public Meetings

AGENCY: Office of the Secretary of Transportation, U.S. Department of Transportation.

ACTION: Notice of public meetings.

SUMMARY: This notice announces two virtual meetings of the Department of Transportation Advisory Committee on Human Trafficking.

DATES: The meetings will be held on August 14, 2024, from 10:30 a.m. to 4:45 p.m. EDT and September 6, 2024, from 11:00 a.m. to 2:15 p.m. EDT.

ADDRESSES: The meetings will be held virtually. Any person requiring accessibility accommodations should contact the Official listed in the next section.

FOR FURTHER INFORMATION CONTACT: Maha Alkhateeb, Office of International Transportation and Trade, U.S. Department of Transportation, at trafficking@dot.gov or (202) 366-4398. Also visit the ACHT website at https://www.transportation.gov/stophumantrafficking/acht.

SUPPLEMENTARY INFORMATION:

I. Background

ACHT was re-chartered on July 29, 2022, using the Department's authorities under the Bipartisan Infrastructure Law (BIL) (Pub. L. 117-58).¹ Sec. 23020 of BIL requires the Secretary of Transportation, acting through the ACHT and in coordination with the Attorney General, to submit a triennial counter-trafficking report with (1) recommendations for countering human trafficking; (2) an assessment of best practices by transportation stakeholders; and (3) human trafficking violations involving commercial motor vehicles.

¹ https://www.congress.gov/117/plaws/publ58/PLAW-117publ58.pdf.

II. Agenda

At the August 14, 2024, meeting, the agenda will cover the following topics:

10:30-10:45 a.m.—Welcome & Call to Order

10:50 a.m.-12:00 p.m.—USG Presentation(s)

12:05-1:00 p.m.—Lunch

1:05-1:30 p.m.—ACHT Report Overview

• David Saperstein, Chair

• Esther Goetsch, Vice Chair

1:35-3:30 p.m.—Discussion and Deliberation

• David Saperstein, Chair

• Esther Goetsch, Vice Chair

3:35-3:50 p.m.—Break

3:55-4:25 p.m.—Public Comment

• Maha Alkhateeb, Designated Federal Officer

4:30-4:45 p.m.—Next Steps and Closing Remarks

At the September 6, 2024, meeting, the agenda will cover the following topics:

11:00-11:30 a.m.—Welcome & Call to Order

• Julie Abraham, Director

11:35 a.m.-12:00 p.m.—ACHT Report Overview

• David Saperstein, Chair

• Esther Goetsch, Vice Chair

12:05-12:35 p.m.—Vote to Adopt the ACHT Final Report Overview

• David Saperstein, Chair

12:40-12:50 p.m.—Break

12:55-1:25 p.m.—Committee Member Reflections

• Esther Goetsch, Vice Chair

1:30-2:00 p.m.—Public Comment

• Maha Alkhateeb, Designated Federal Officer

2:05-2:15 p.m.—Closing Remarks

Final agendas that include a virtual participation link will be posted on the ACHT internet website at https://www.transportation.gov/stophumantrafficking/acht, at least one week in advance of the meetings.

III. Public Participation

The virtual meetings will be open to the public.

Members of the public who wish to attend the August 14, 2024, meeting are asked to register, including name and affiliation, at trafficking@dot.gov, by August 6, 2024. Individuals requesting accessibility accommodations, such as sign language, interpretation, or other ancillary aids, may do so via email to trafficking@dot.gov, by August 6, 2024.

Members of the public who wish to attend the September 6, 2024 meeting are asked to register, including name and affiliation, at trafficking@dot.gov, by August 28, 2024. Individuals requesting accessibility accommodations, such as sign language, interpretation, or other ancillary aids, may do so via email to trafficking@dot.gov, by August 28, 2024.

There will be 30 minutes allotted for oral comments from members of the public joining the meetings. To accommodate as many speakers as possible, the time for each speaker may be limited. Individuals wishing to reserve speaking time during the meetings must submit a request at the time of registration, as well as the name, address, and organizational affiliation of the proposed speaker. If the number of registrants requesting to make statements is greater than can be reasonably accommodated during the meetings, the Office of the Secretary may conduct a lottery to determine the speakers. Speakers are requested to submit a written copy of their prepared remarks no later than 5:00 p.m. EDT on August 6, 2024, for the August 14, 2024, meeting, and no later than 5:00 p.m. EDT on August 28, 2024, for the September 6, 2024, meeting, for inclusion in the meeting records and for circulation to ACHT members. Written comments timely submitted from those participants not selected to speak will be accepted and considered as part of the meeting record.

Persons who wish to submit written comments for consideration by ACHT during the meeting must submit them no later than 5:00 p.m. EDT on August 6, 2024, for the August 14, 2024, meeting, and on August 28, 2024, for the September 6, 2024, meeting, to ensure transmission to ACHT prior to the meetings. Comments received after those date and time will be distributed to the members, but may not be reviewed prior to the meetings.

Copies of the meeting minutes will be available on the ACHT internet website at https://www.transportation.gov/stophumantrafficking/acht.

Issued in Washington, DC, on June 20, 2024.
Carol Annette Petsonk,
Assistant Secretary, Aviation and International Affairs, U.S. Department of Transportation.

[FR Doc. 2024-13980 Filed 6-25-24; 8:45 am]

BILLING CODE 4910-9X-P